DEPARTMENT OF COMMERCE

Census Bureau

Proposed Information Collection; Comment Request; 2012 Economic Census Classification Report for the Construction, Manufacturing, and Mining Sectors and Selected Wholesale Industries

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before February 14, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Scott P. Handmaker, Chief, Economic Classifications Operations Branch, U.S. Census Bureau, 8K149, Washington, DC 20233, Telephone: 301-763-7107 or e-mail at Scott.P.Handmaker@census.gov.

SUPPLEMENTARY INFORMATION:

I. Abstract

The Census Bureau is the preeminent collector of timely, relevant and quality data describing the people and economy of the United States. Economic data are the Census Bureau's primary program commitment during non-decennial census years. The economic census, conducted under authority of Title 13 U.S.C., is the primary source of facts about the structure and functioning of the Nation's economy and features unique industry and geographic detail. Economic census statistics serve as part of the framework for the national accounts and provide essential information for government, business, and the general public.

The Economic Census Classification Report (NC-99026) collects data on manufacturing, mining, construction, and selected wholesale businesses for the purpose of assigning an accurate 8-digit North American Industry Classification System (NAICS) based code for use in the 2012 Economic Census. This report, conducted separately in fiscal years 2012 and 2013, samples approximately 75,000 businesses each year.

The Census Bureau will select establishments to receive this survey from the Census Bureau's Business Register. The Census Bureau will mail the NC-99026 to establishments that have been assigned a partial manufacturing, mining, or construction NAICS code by administrative records and from other categories of administrative codes that may be identified. Additionally, wholesale establishments currently classified in select industries will be sampled in order to verify correct classification due to changes in NAICS for 2012.

Collecting this classification information will ensure the Economic Census mailing list for the targeted sectors are complete and accurate prior to the mailing of the 2012 Economic Census. This information is also used to determine whether an establishment will be mailed a form in the Economic Census, and if so, what form type. Many businesses are small and will not receive additional Economic Census forms, making this report the only medium by which to obtain an accurate 8-digit NAICS-based code. In other cases, the Census Bureau produces sample estimates. The results of this collection will be used to select a statistically reliable and efficient sample, minimizing the reporting burden on sampled sectors. Proper NAICS classification data ensures high quality economic statistics while reducing respondent burden and overall processing costs. Failure to collect this data will have an adverse effect on the quality and usefulness of economic information provided by the Census Bureau.

There are few changes since the last request was submitted to OMB in 2006. Selected wholesale industries will be added to verify proper NAICS classification. Also, changes will be made to the wording and organization of existing economic activity descriptions. Additionally, respondents will have the option to respond electronically via the Internet, which can reduce respondent burden and costs.

II. Method of Collection

Information is collected by mail, Internet, fax, and telephone follow-up.

III. Data

OMB Control Number: 0607-0925.

Form Number: NC-99026.

Type of Review: Regular submission.

Affected Public: Businesses and organizations (both profit and non-profit); State and local governments; small businesses.

Estimated Number of Respondents: 75,000.

Estimated Time per Response: 5 minutes.

Estimated Total Annual Burden Hours: 6,250.

Estimated Total Annual Cost: $181,313.

Respondent's Obligation: Mandatory.

Legal Authority: Title 13 U.S.C. 131, 193 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 9, 2010.
Glenna Mickelson,
Management Analyst, Office of the Chief Information Officer.

[FR Doc. 2010-31385 Filed 12-14-10; 8:45 am]

BILLING CODE 3510-07-P